DEPARTMENT OF JUSTICE

Notice of Lodging of Proposed Consent Decree Under the Comprehensive Environmental Response, Compensation and Liability Act

On March 8, 2018, the Department of Justice lodged a proposed Consent Decree with the United States District Court for the District of Colorado in the lawsuit entitled United States v. El Paso County Retirement Plan, Civil Action No. 1:18-cv-00552.

The proposed Consent Decree resolves the United States' claim under Section 107 of the Comprehensive Environmental Response, Compensation and Liability Act (“CERCLA”), 42 U.S.C. 9607, against the El Paso County Retirement Plan for recovery of past response costs incurred at the Widefield PCE Superfund Site (“Site”) in El Paso County, Colorado. The Site comprises a former dry cleaners at 3217 South Academy Boulevard in Colorado Springs and related contamination of soil and groundwater, including of the Widefield Aquifer. The El Paso County Retirement Plan was the owner of the 3217 South Academy Boulevard property at the time of disposal of hazardous substances. The proposed Consent Decree requires the El Paso County Retirement Plan to pay $420,000 in reimbursement of past response costs incurred by the United States with respect to the Site. The proposed Consent Decree provides the El Paso County Retirement Plan with a covenant not to sue for past response costs incurred by the United States in connection with the Site and contribution protection under CERCLA.

The publication of this notice opens a period for public comment on the proposed Consent Decree. Comments should be addressed to the Assistant Attorney General, Environment and Natural Resources Division, and should refer to United States v. El Paso County Retirement Plan, D.J. Ref. No. 90-11-3-11721/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $3.75 (25 cents per page reproduction cost) payable to the United States Treasury.

Robert Brook,
Assistant Section Chief, Environmental Enforcement Section, Environment and Natural Resources Division.

[FR Doc. 2018-05182 Filed 3-13-18; 8:45 am]

BILLING CODE 4410-15-P